DEPARTMENT OF COMMERCE

National Oceanic and Atmospheric Administration

50 CFR Part 660

[Docket No. 180702602-9400-01]

RIN 0648-XW007

Fisheries Off West Coast States; Modifications of the West Coast Recreational and Commercial Salmon Fisheries; Inseason Actions #6 Through #27

AGENCY: National Marine Fisheries Service (NMFS), National Oceanic and Atmospheric Administration (NOAA), Commerce.

ACTION: Modification of fishing seasons.

SUMMARY: NMFS announces 22 inseason actions in the ocean salmon fisheries. These inseason actions modified the commercial and recreational salmon fisheries in the area from the U.S./Canada border to the U.S./Mexico border.

DATES: The effective dates for the inseason actions are set out in this document under the heading Inseason Actions.

FOR FURTHER INFORMATION CONTACT: Peggy Mundy at 206-526-4323.

SUPPLEMENTARY INFORMATION:

Background

In the 2019 annual management measures for ocean salmon fisheries (84 FR 19729, May 6, 2019), NMFS announced management measures for the commercial and recreational fisheries in the area from the U.S./Canada border to the U.S./Mexico border, effective from 0001 hours Pacific Daylight Time (PDT), May 6, 2019, until the effective date of the 2020 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: California Department of Fish and Wildlife (CDFW), Oregon Department of Fish and Wildlife (ODFW), and Washington Department of Fish and Wildlife (WDFW).

Management Areas

Management of the salmon fisheries is generally divided into two geographic areas: North of Cape Falcon (U.S./Canada border to Cape Falcon, OR) and south of Cape Falcon (Cape Falcon, OR, to the U.S./Mexico border). Within the north and south of Cape Falcon areas, there are further subarea divisions used to manage impacts on salmon stocks or stock groups as well as economic impacts to communities.

North of Cape Falcon: Recreational fisheries north of Cape Falcon are divided into four subareas: U.S./Canada border to Cape Alava, WA (Neah Bay subarea), Cape Alava, WA, to Queets River, WA (La Push subarea), Queets River, WA, to Leadbetter Point, WA (Westport subarea), and Leadbetter Point, WA, to Cape Falcon, OR (Columbia River subarea). Commercial fisheries north of Cape Falcon are divided at Queets River, WA, and Leadbetter Point, WA.

South of Cape Falcon: South of Cape Falcon, the area from Humbug Mountain, OR, to Horse Mountain, CA, is the Klamath Management Zone (KMZ) and is managed in two subareas, Oregon KMZ and California KMZ, divided at the Oregon/California border. The Oregon KMZ is the area from Humbug Mountain, OR, to the Oregon/California border. The California KMZ is the area from the Oregon/California border to Horse Mountain, CA. However, the area from Humboldt South Jetty, CA, to Horse Mountain, CA, has been closed to commercial salmon fishing since 1992.

Inseason Actions

Inseason Action #6

Description of the action: Inseason action #6 temporarily closed the commercial salmon fishery from the U.S./Canada border to Queets River, WA.

Effective dates: Inseason action #6 took effect on June 19, 2019, and remained in effect until superseded by inseason action #8 on June 24, 2019.

Reason and authorization for the action: The purpose of inseason action #6 was to avoid exceeding the subarea quota for Chinook salmon. The 2019 annual management measures (84 FR 19729, May 6, 2019) state that inseason action will be considered when approximately 60 percent of the subarea guideline for the area from the U.S./Canada border to Queets River, WA, has been landed. At the time of this inseason consultation, 75 percent of the subarea guideline had been landed. The Regional Administrator (RA) considered Chinook salmon landings and fishery effort and determined inseason action was necessary to stay within the quota. Inseason action to modify fishing seasons is authorized by 50 CFR 660.409(b)(1)(i).

Consultation date and participants: Consultation on inseason action #6 occurred on June 14, 2019. Representatives from NMFS, WDFW, and ODFW participated in this consultation. Council staff were unavailable to participate, but were notified of the RA's decision immediately after the consultation.

Inseason Action #7

Description of the action: Inseason action #7 allowed retention of halibut caught incidental to the commercial salmon fishery by International Pacific Halibut Commission license holders to continue past June 30, 2019. Inseason action #7 also reduced the landing limit for incidental halibut from 35 halibut per vessel per trip to 15 halibut per vessel per trip; other landing restrictions remained as set preseason. This inseason action applied to commercial salmon fisheries from the U.S./Canada border to the U.S./Mexico border.

Effective dates: Inseason action #7 took effect on July 1, 2019, and remained in effect until superseded on July 19, 2019 by inseason action #16.

Reason and authorization for the action: The 2019 annual management measures for ocean salmon fisheries (84 FR 19729, May 6, 2019) announced the conditions for incidental halibut harvest: “incidental harvest is authorized only during April, May, and June of the 2019 troll seasons, and after June 30 in 2019 if quota remains.” At the time of this consultation, 49 percent of the incidental halibut allocation remained uncaught. The RA considered Chinook salmon and halibut landings and fishery effort in the commercial ocean salmon fishery and determined that this inseason action was necessary to meet management objectives set preseason and to allow access to the available halibut allocation, as provided for in the 2019 annual management measures for ocean salmon fisheries (84 FR 19729, May 6, 2019). Inseason action to modify species that may be caught and landed during specific seasons and the establishment of modification of limited retention regulations are authorized by 50 CFR 660.409(b)(1)(ii).

Consultation date and participants: Consultation on inseason action #7 occurred on June 24, 2019. Representatives from NMFS, WDFW, ODFW, CDFW, and the Council participated in this consultation.

Inseason Action #8

Description of the action: Inseason action #8 reopened the commercial salmon fishery from the U.S./Canada border to Queets River, WA, from 1 p.m., June 24, 2019, to 11:59 p.m., June 28, 2019, with a landing and possession limit of 20 Chinook salmon per vessel for the landing period.

Effective dates: Inseason action #8 superseded inseason action #6, above, on June 24, 2019, and remained in effect through the scheduled closure of this fishery on June 28, 2019.

Reason and authorization for the action: The purpose of inseason action #8 was to allow access to available subarea Chinook salmon quota for the May-June season for the economic benefit of local fishery dependent communities. The RA considered Chinook landings to date, remaining Chinook salmon quota, and fishery effort projections and determined inseason action was necessary to meet management objectives set preseason. Inseason action to modify fishing seasons is authorized by 50 CFR 660.409(b)(1)(i).

Consultation date and participants: Consultation on inseason action #8 occurred on June 24, 2019. Representatives from NMFS, WDFW, ODFW, and the Council participated in this consultation.

Inseason Action #9

Description of the action: Inseason action #9 adjusted the July quota in the commercial salmon fishery in the Oregon KMZ to account for an impact-neutral rollover of unused quota from June. The July quota was adjusted from 2,500 Chinook salmon to 4,495 Chinook salmon.

Effective dates: Inseason action #9 took effect July 4, 2019, and remained in effect through the end of the July quota period on July 31, 2019.

Reason and authorization for the action: The purpose of inseason action #9 was to be consistent with the annual management measures, which state that any remaining portion of Chinook quotas in the Oregon KMZ may be transferred inseason on an impact-neutral basis to the next open quota period (84 FR 19729, May 6, 2019). The RA considered Chinook salmon landings to date and the calculations of the Council's Salmon Technical Team (STT) for rolling over quota on an impact-neutral basis for impacts to Klamath River fall-run Chinook salmon (KRFC), impacts to age-4 KRFC which serves as a surrogate for impacts to California Coastal Chinook salmon (listed as threatened under the Endangered Species Act (ESA)), and fifty-fifty tribal/nontribal sharing of KRFC allowable catch. The RA determined inseason action was necessary to meet management objectives set preseason. Inseason action to modify quotas is authorized by 50 CFR 660.409(b)(1)(i).

Consultation date and participants: Consultation on inseason action #9 occurred on July 3, 2019. Representatives from NMFS, ODFW, CDFW, and the Council participated in this consultation.

Inseason Action #10

Description of the action: Inseason action #10 increased the landing limit in the commercial salmon fishery in the Oregon KMZ from 50 Chinook salmon to 125 Chinook salmon per vessel per landing week (set preseason as Thursday through Wednesday).

Effective dates: Inseason action #10 took effect July 4, 2019, and remained in effect through the scheduled closure of this fishery on August 29, 2019.

Reason and authorization for the action: The purpose of inseason action #10 was to provide greater access to available quota. The RA considered Chinook landings to date, remaining Chinook salmon quota, and fishery effort projections and determined inseason action was necessary to meet management objectives set preseason. Inseason action to modify limited retention regulations is authorized by 50 CFR 660.409(b)(1)(ii).

Consultation date and participants: Consultation on inseason action #10 occurred on July 3, 2019. Representatives from NMFS, ODFW, CDFW, and the Council participated in this consultation.

Inseason Action #11

Description of the action: Inseason action #11 adjusted the July quota in the commercial salmon fishery in the California KMZ to account for an impact-neutral rollover of unused quota from June. The July quota was adjusted from 2,500 Chinook salmon to 3,997 Chinook salmon.

Effective dates: Inseason action #11 took effect July 4, 2019, and remained in effect through the end of the July quota period on July 31, 2019.

Reason and authorization for the action: The purpose of inseason action #11 was to be consistent with the annual management measures, which state that any remaining portion of Chinook quotas in the California KMZ may be transferred inseason on an impact-neutral basis to the next open quota period (84 FR 19729, May 6, 2019). The RA considered Chinook salmon landings to date and the calculations of the STT for rolling over quota on an impact-neutral basis for impacts to Sacramento River fall-run Chinook salmon. The RA determined inseason action was necessary to meet management objectives set preseason. Inseason action to modify quotas is authorized by 50 CFR 660.409(b)(1)(i).

Consultation date and participants: Consultation on inseason action #11 occurred on July 3, 2019. Representatives from NMFS, ODFW, CDFW, and the Council participated in this consultation.

Inseason Action #12

Description of the action: Inseason action #12 modified the daily bag limit in the recreational fishery in the Neah Bay subarea to two salmon, only one of which can be a Chinook salmon; previously, two Chinook salmon could be retained.

Effective dates: Inseason action #12 took effect July 8, 2019, and remained in effect until superseded by inseason action #14 on July 14, 2019.

Reason and authorization for the action: The purpose of inseason action #12 was to avoid exceeding the subarea quota for Chinook salmon. This fishery opened on June 22, 2019, and had landed 28 percent of the subarea Chinook salmon guideline in less than two weeks. The RA considered Chinook salmon landings and fishery effort and determined inseason action was necessary to stay within the quota. Inseason action to modify recreational bag limits is authorized by 50 CFR 660.409(b)(1)(iii).

Consultation date and participants: Consultation on inseason action #12 occurred on July 3, 2019. Representatives from NMFS, WDFW, ODFW, and the Council participated in this consultation.

Inseason Action #13

Description of the action: Inseason action #13 adjusted the July-September quota in the commercial salmon fishery north of Cape Falcon to account for an impact-neutral rollover of unused quota from the May-June fishery in the same area. The July-September quota was increased from 13,050 to 19,257 Chinook salmon.

Effective dates: Inseason action #13 took effect July 12, 2019, and remained in effect through the scheduled closure of the fishery on September 30, 2019.

Reason and authorization for the action: The purpose of inseason action #13 was to be consistent with the annual management measures, which state that any remaining portion of Chinook quotas in the north of Cape Falcon commercial fishery may be transferred inseason on an impact-neutral basis to the next open quota period (84 FR 19729, May 6, 2019). The RA considered Chinook salmon landings to date and the calculations of the STT for rolling over quota on an impact-neutral basis for impacts to ESA-listed Lower Columbia River tule Chinook salmon and Puget Sound Chinook salmon. The RA determined inseason action was necessary to meet management objectives set preseason. Inseason action to modify quotas is authorized by 50 CFR 660.409(b)(1)(i).

Consultation date and participants: Consultation on inseason action #13 occurred on July 12, 2019. Representatives from NMFS, WDFW, ODFW, and the Council participated in this consultation.

Inseason Action #14

Description of the action: Inseason action #14 modified the daily bag limit in the recreational ocean salmon fishery in the Neah Bay subarea to prohibit retention of Chinook salmon.

Effective dates: Inseason action #14 superseded inseason action #12, above, on July 14, 2019, and remained in effect through the scheduled closure of the fishery on September 30, 2019.

Reason and authorization for the action: The purpose of inseason action #14 was to avoid exceeding the subarea guideline for Chinook salmon. In the two weeks since this fishery opened on June 22, 2019, nearly 60 percent of the subarea guideline for Chinook salmon had been landed. WDFW recommended prohibiting retention of Chinook salmon to ensure sufficient impacts available to account for incidental mortality of Chinook salmon while the fishery targeted coho salmon for the remainder of the season. The RA considered Chinook salmon landings and fishery effort and determined inseason action was necessary to stay within the guideline and meet management objectives set preseason. Inseason action to modify recreational bag limits is authorized by 50 CFR 660.409(b)(1)(iii).

Consultation date and participants: Consultation on inseason action #14 occurred on July 12, 2019. Representatives from NMFS, WDFW, ODFW, and the Council participated in this consultation.

Inseason Action #15

Description of the action: Inseason action #15 modified the daily bag limit in the recreational ocean salmon fishery in the La Push subarea, to two salmon per day, only one of which can be a Chinook salmon; previously, two Chinook salmon could be retained.

Effective dates: Inseason action #15 took effect on July 15, 2019, and remained in effect through the scheduled closure of the fishery on September 30, 2019.

Reason and authorization for the action: The purpose of inseason action #15 was to avoid exceeding the subarea guideline for Chinook salmon. This subarea had a small guideline for Chinook salmon and, with the prohibition of Chinook salmon retention in the neighboring Neah Bay subarea (see inseason action #14, above), there was concern that effort shift to La Push would quickly exhaust the available Chinook salmon guideline. The RA considered Chinook salmon landings and fishery effort and determined inseason action was necessary to stay within the guideline and meet management objectives set preseason. Inseason action to modify recreational bag limits is authorized by 50 CFR 660.409(b)(1)(iii).

Consultation date and participants: Consultation on inseason action #15 occurred on July 12, 2019. Representatives from NMFS, WDFW, ODFW, and the Council participated in this consultation.

Inseason Action #16

Description of the action: Inseason action #16 reduced the landing and possession limit for halibut caught incidental to the commercial ocean salmon fishery from the U.S./Canada border to the U.S./Mexico border from 15 to 4 halibut per vessel per trip, all other restrictions remained as set preseason.

Effective dates: Inseason action #16 superseded inseason action #7, above, on July 19, 2019, and remained in effect until superseded by inseason action #19, below, on July 27, 2019.

Reason and authorization for the action: The purpose of inseason action #16 was to extend access to available incidental halibut allocation without exceeding the allocation. At the time of this inseason consultation, 10.6 percent of the halibut allocation remained available. The RA considered Chinook salmon and halibut landings and fishery effort and determined inseason action was necessary to extend access to available halibut and stay within the allocation. Inseason action to modify species that may be caught and landed during specific seasons and the establishment of modification of limited retention regulations are authorized by 50 CFR 660.409(b)(1)(ii).

Consultation date and participants: Consultation on inseason action #16 occurred on July 17, 2019. Representatives from NMFS, WDFW, ODFW, CDFW, and the Council participated in this consultation.

Inseason Action #17

Description of the action: Inseason action #17 increased the landing limit in the commercial ocean salmon fishery in the California KMZ from 20 to 50 Chinook salmon per vessel per day.

Effective dates: Inseason action #17 took effect on July 19, 2019, and remained in effect until superseded by inseason action #24 on August 12, 2019.

Reason and authorization for the action: The purpose of inseason action #17 was to provide increased access available Chinook salmon quota. Landings in the California KMZ in June and early July were low. At the time of this inseason consultation, the fishery had only landed two percent of the adjusted July quota. The RA considered Chinook salmon landings and fishery effort and determined inseason action was necessary to meet management goals set preseason. Inseason action to modify limited retention regulations is authorized by 50 CFR 660.409(b)(1)(ii).

Consultation date and participants: Consultation on inseason action #17 occurred on July 17, 2019. Representatives from NMFS, ODFW, CDFW, and the Council participated in this consultation.

Inseason Action #18

Description of the action: Inseason action #18 imposed a landing limit of 125 Chinook salmon per vessel per landing week (set preseason as Thursday through Wednesday) in the commercial ocean salmon fishery from the U.S./Canada border to Cape Falcon, OR.

Effective dates: Inseason action #18 took effect on July 19, 2019, and remained in effect until superseded by inseason action #25 on August 16, 2019.

Reason and authorization for the action: The purpose of inseason action #18 was to set a precautionary landing limit on this fishery which opened July 1, 2019, with a Chinook salmon quota, but no landing limit, set preseason. The fishery landed 43 percent of the Chinook salmon quota in the first 17 days of the fishery. The RA considered Chinook salmon landings and fishery effort and determined inseason action was necessary to sustain season length while remaining within the quota. Inseason action to establish or modify limited retention regulations is authorized by 50 CFR 660.409(b)(1)(ii).

Consultation date and participants: Consultation on inseason action #18 occurred on July 17, 2019. Representatives from NMFS, WDFW, ODFW, and the Council participated in this consultation.

Inseason Action #19

Description of the action: Inseason action #19 reduced the landing and possession limit for halibut caught incidental to the commercial ocean salmon fishery from the U.S./Canada border to the U.S./Mexico border from 4 to 2 halibut per vessel per trip, all other restrictions remained as set preseason.

Effective dates: Inseason action #19 superseded inseason action #16, above, on July 27, 2019, and remains in effect until all 2019 commercial salmon fisheries close, unless superseded by inseason action.

Reason and authorization for the action: The purpose of inseason action #19 was to extend access to available incidental halibut allocation without exceeding the allocation. At the time of this inseason consultation, 9.1 percent of the allocation remained available. The RA considered Chinook salmon and halibut landings and fishery effort and determined inseason action was necessary to extend access to available halibut and stay within the allocation. Inseason action to modify species that may be caught and landed during specific seasons and the establishment of modification of limited retention regulations are authorized by 50 CFR 660.409(b)(1)(ii).

Consultation date and participants: Consultation on inseason action #19 occurred on July 24, 2019. Representatives from NMFS, WDFW, ODFW, CDFW, and the Council participated in this consultation.

Inseason Action #20

Description of the action: Inseason action #20 adjusted the August quota in the commercial salmon fishery in the California KMZ to account for an impact-neutral rollover of unused quota from July. The August quota was adjusted from 2,000 Chinook salmon to 4,293 Chinook salmon.

Effective dates: Inseason action #20 took effect August 2, 2019, and remained in effect through the scheduled closure of this fishery on August 31, 2019.

Reason and authorization for the action: The purpose of inseason action #20 was to be consistent with the annual management measures, which state that any remaining portion of Chinook quotas in the California KMZ may be transferred inseason on an impact-neutral basis to the next open quota period (84 FR 19729, May 6, 2019). The RA considered Chinook salmon landings to date and the calculations of the STT for rolling over quota on an impact-neutral basis for impacts to Sacramento River fall-run Chinook salmon. The RA determined inseason action was necessary to meet management objectives set preseason. Inseason action to modify quotas is authorized by 50 CFR 660.409(b)(1)(i).

Consultation date and participants: Consultation on inseason action #20 occurred on August 2, 2019. Representatives from NMFS, ODFW, and CDFW. Council staff were unavailable to participate, but were notified of the RA's decision immediately after the consultation.

Inseason Action #21

Description of the action: Inseason action #21 adjusted the August quota in the commercial salmon fishery in the Oregon KMZ to account for an impact-neutral rollover of unused quota from July. The August quota was adjusted from 1,200 Chinook salmon to 4,330 Chinook salmon.

Effective dates: Inseason action #21 took effect August 2, 2019, and remained in effect through the scheduled closure of this fishery on August 29, 2019.

Reason and authorization for the action: The purpose of inseason action #21 was to be consistent with the annual management measures, which state that any remaining portion of Chinook quotas in the Oregon KMZ may be transferred inseason on an impact-neutral basis to the next open quota period (84 FR 19729, May 6, 2019). The RA considered Chinook salmon landings to date and the calculations of the STT for rolling over quota on an impact-neutral basis for impacts to KRFC, impacts to age-4 KRFC which serves as a surrogate for impacts to California Coastal Chinook salmon (listed as threatened under the ESA), and fifty-fifty tribal/nontribal sharing of KRFC allowable catch. The RA determined inseason action was necessary to meet management objectives set preseason. Inseason action to modify quotas is authorized by 50 CFR 660.409(b)(1)(i).

Consultation date and participants: Consultation on inseason action #21 occurred on August 2, 2019. Representatives from NMFS, ODFW, and CDFW. Council staff were unavailable to participate, but were notified of the RA's decision immediately after the consultation.

Inseason Action #22

Description of the action: Inseason action #22 temporarily closed the commercial salmon fishery in the California KMZ.

Effective dates: Inseason action #22 took effect on August 5, 2019, and remained in effect until superseded by inseason action #24 on August 12, 2019.

Reason and authorization for the action: The purpose of inseason action #22 was to avoid exceeding the subarea quota for Chinook salmon. Landings in the first two open days of August were unexpectedly high and there was concern the quota would be exceeded. The RA considered Chinook salmon landings and fishery effort and determined inseason action was necessary to prevent exceeding the quota. Inseason action to modify fishing seasons is authorized by 50 CFR 660.409(b)(1)(i).

Consultation date and participants: Consultation on inseason action #22 occurred on August 5, 2019. Representatives from NMFS, ODFW, CDFW, and the Council participated in this consultation.

Inseason Action #23

Description of the action: Inseason action #23 modified the daily bag limit in the recreational ocean salmon fishery in the Westport subarea to allow retention of two Chinook salmon per day. Previously, the two salmon per day landing limit allowed retention of only one Chinook salmon.

Effective dates: Inseason action #23 took effect on August 10, 2019, and remained in effect until the scheduled closure of the fishery on September 30, 2019.

Reason and authorization for the action: The purpose of inseason action #23 was to allow access to available subarea guideline for Chinook salmon. At the time of this inseason consultation the Westport fishery had only landed 11 percent of the subarea guideline for Chinook salmon. The RA considered Chinook salmon landings and fishery effort and determined inseason action was necessary to meet management objectives set preseason. Inseason action to modify recreational bag limits is authorized by 50 CFR 660.409(b)(1)(iii).

Consultation date and participants: Consultation on inseason action #23 occurred on August 7, 2019. Representatives from NMFS, WDFW, and ODFW participated in this consultation. Council staff were unavailable to participate, but were notified of the RA's decision immediately after the consultation.

Inseason Action #24

Description of the action: Inseason action #24 reopened the commercial ocean salmon fishery in the California KMZ with a landing and possession limit of 15 Chinook salmon per vessel per day; the previous landing and possession limit was 50 Chinook salmon per vessel per day.

Effective dates: Inseason action #24 took effect on August 12, 2019, superseding inseason actions #17 and #22, above, to reopen the fishery and modify the landing and possession limit. Inseason action #24 remained in effect through the scheduled closure of the fishery on August 31, 2019.

Reason and authorization for the action: The purpose of inseason action #24 was to allow access to available Chinook salmon quota without exceeding the quota. Subsequent to the temporary closure of this fishery on August 5, 2019 (see inseason action #22, above), 1,093 Chinook salmon remained available on the August quota. CDFW recommended reopening the fishery to access this quota, but reducing the landing limit to keep landings within the quota. The RA considered Chinook salmon landings and fishery effort and determined inseason action was necessary to stay within the quota. Inseason action to modify fishing seasons is authorized by 50 CFR 660.409(b)(1)(i). Inseason action to modify limited retention regulations is authorized by 50 CFR 660.409(b)(1)(ii).

Consultation date and participants: Consultation on inseason action #24 occurred on August 8, 2019. Representatives from NMFS, ODFW, CDFW, and the Council participated in this consultation.

Inseason Action #25

Description of the action: Inseason action #25 increased the landing limit from 125 to 160 Chinook salmon per vessel per landing week (set preseason as Thursday through Wednesday) in the commercial ocean salmon fishery from the U.S./Canada border to Cape Falcon, OR. The landing limit for coho in this fishery was unchanged.

Effective dates: Inseason action #25 superseded inseason action #18 on August 16, 2019, and remained in effect until the scheduled closure of this fishery on September 30, 2019.

Reason and authorization for the action: The purpose of inseason action #25 was to provide access to available Chinook salmon quota without exceeding the quota. At the time of the inseason consultation, the fishery had 28 percent of the adjusted July-September Chinook salmon quota remaining. The RA considered Chinook salmon landings and fishery effort and determined inseason action was necessary to sustain season length while remaining within the quota. Inseason action to establish or modify limited retention regulations is authorized by 50 CFR 660.409(b)(1)(ii).

Consultation date and participants: Consultation on inseason action #25 occurred on August 15, 2019. Representatives from NMFS, WDFW, ODFW, and the Council participated in this consultation.

Inseason Action #26

Description of the action: Inseason action #26 modified the quota for the recreational non-mark-selective coho fishery from Cape Falcon, OR, to Humbug Mountain, OR, from 9,000 to 15,640 non-mark-selective coho due to an impact-neutral rollover of remaining quota from the recreational mark-selective coho fishery that ended August 25, 2019.

Effective dates: Inseason action #26 took effect on September 6, 2019, and remained in effect through the scheduled closure of this fishery on September 30, 2019.

Reason and authorization for the action: The purpose of inseason action #26 was to be consistent with the annual management measures, which state that any remainder of the mark-selective coho quota may be transferred inseason on an impact-neutral basis to the non-mark-selective coho quota from Cape Falcon, OR, to Humbug Mountain, OR (84 FR 19729, May 6, 2019). The RA considered Chinook salmon landings to date and the calculations of the STT for rolling over quota on an impact-neutral basis for impacts to Oregon Coast Natural coho. The RA determined inseason action was necessary to meet management objectives set preseason. Inseason action to modify quotas is authorized by 50 CFR 660.409(b)(1)(i).

Consultation date and participants: Consultation on inseason action #26 occurred on September 4, 2019. Representatives from NMFS, ODFW, CDFW and the Council participated in this consultation.

Inseason Action #27

Description of the action: Inseason action #27 modified the open dates in the recreational non-mark-selective coho fishery from Cape Falcon, OR, to Humbug Mountain, OR. This action added Monday, September 23, 2019 through Thursday, September 26, 2019, to the scheduled open dates for this fishery.

Effective dates: Inseason action #27 took effect on September 23, 2019, and remained in effect until the scheduled closure of this fishery on September 30, 2019.

Reason and authorization for the action: The purpose of inseason action #27 was to provide access to available coho quota. With ten days remaining on the season, 41 percent of the non-mark-selective coho quota remained uncaught. The RA considered Chinook salmon landings and fishery effort and determined inseason action was necessary to be consistent with management objectives set preseason. Inseason action to modify fishing seasons is authorized by 50 CFR 660.409(b)(1)(i).

Consultation date and participants: Consultation on inseason action #27 occurred on September 20, 2019. Representatives from NMFS, ODFW, CDFW, and the Council participated in this consultation.

All other restrictions and regulations remain in effect as announced for the 2019 ocean salmon fisheries and 2020 salmon fisheries opening prior to May 1, 2020 (84 FR 19729, May 6, 2019), and as modified by prior inseason actions.

The RA determined that the best available information indicated that Chinook salmon abundance forecasts, incidental halibut allocation, and expected fishery effort in 2019 supported the above inseason actions recommended by the states of Washington, Oregon, and California. The states manage the fisheries in state waters adjacent to the areas of the U.S. exclusive economic zone consistent with these Federal actions. As provided by the inseason notice procedures of 50 CFR 660.411, actual notice of the described regulatory action was given, prior to the time the action was effective, by telephone hotline numbers 206-526-6667 and 800-662-9825, and by U.S. Coast Guard Notice to Mariners broadcasts on Channel 16 VHF-FM and 2182 kHz.

Classification

NOAA's Assistant Administrator (AA) for NMFS finds that good cause exists for this notification to be issued without affording prior notice and opportunity for public comment under 5 U.S.C. 553(b)(B) because such notification would be impracticable. As previously noted, actual notice of the regulatory action was provided to fishers through telephone hotline and radio notification. This action complies with the requirements of the annual management measures for ocean salmon fisheries (84 FR 19729, May 6, 2019), the Pacific Coast Salmon Fishery Management Plan (FMP), and regulations implementing the FMP under 50 CFR 660.409 and 660.411. Prior notice and opportunity for public comment was impracticable because NMFS and the state agencies had insufficient time to provide for prior notice and the opportunity for public comment between the time Chinook salmon catch and effort projections and abundance forecasts were developed and fisheries impacts were calculated, and the time the fishery modifications had to be implemented in order to ensure that fisheries are managed based on the best available scientific information, ensuring that conservation objectives and limits for impacts to salmon species listed under the ESA are not exceeded. The AA also finds good cause to waive the 30-day delay in effectiveness required under 5 U.S.C. 553(d)(3), as a delay in effectiveness of this action would allow fishing at levels inconsistent with the goals of the FMP and the current management measures.

This action is authorized by 50 CFR 660.409 and 660.411 and is exempt from review under Executive Order 12866.

Authority: 16 U.S.C. 1801 et seq.

Dated: October 15, 2019.
Alan D. Risenhoover,
Director, Office of Sustainable Fisheries, National Marine Fisheries Service.

[FR Doc. 2019-22772 Filed 10-18-19; 8:45 am]

BILLING CODE 3510-22-P